DEPARTMENT OF THE INTERIOR

Fish and Wildlife Service

[Docket No. FWS-R8-ES-2024-0120; FXES11140800000-245-FF08ESMF00]

Draft Environmental Assessment and Proposed Pacific Gas and Electric Valley Elderberry Longhorn Beetle Operation and Maintenance Habitat Conservation Plan

AGENCY: Fish and Wildlife Service, Interior.

ACTION: Notice of availability; request for public comment.

SUMMARY: We, the U.S. Fish and Wildlife Service, announce receipt of an application from Pacific Gas and Electric for an incidental take permit for the Valley Elderberry Longhorn Beetle Operation and Maintenance Habitat Conservation Plan. Under the Endangered Species Act and National Environmental Policy Act, we are making available the applicant's draft habitat conservation plan and our draft environmental assessment. We invite the public and local, State, Tribal, and Federal agencies to comment on the documents. Before issuing a requested permit, we will take into consideration any information that we receive during the public comment period.

DATES: We must receive your written comments on or before August 9, 2024.

ADDRESSES:

Obtaining Documents: The incidental take permit application, draft environmental assessment (EA), draft habitat conservation plan (plan), and any comments and other materials that we receive are available for public inspection at https://www.regulations.gov in Docket No. FWS-R8-ES-2024-0120.

Submitting Comments: To send written comments, please use one of the following methods, and note that your information requests or comments are in reference to the draft EA, draft plan, or both.

• Internet: Submit comments at https://www.regulations.gov at Docket No. FWS-R8-ES-2024-0120.

• U.S. Mail: Public Comments Processing, Attn: Docket No. FWS-R8-ES-2024-0120; U.S. Fish and Wildlife Service Headquarters, MS: PRB/3W; 5275 Leesburg Pike; Falls Church, VA 22041-3803.

For more information, see Public Comments under SUPPLEMENTARY INFORMATION.

FOR FURTHER INFORMATION CONTACT: Wendy Prestera, Senior Wildlife Biologist, or Jennifer Hobbs, Supervisor, Military and Waterway Planning Division, Sacramento Fish and Wildlife Office, by phone at 916-414-6675. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), announce receipt of an application from Pacific Gas and Electric (PG&E) for a 30-year incidental take permit for the Valley Elderberry Longhorn Beetle Operation and Maintenance Habitat Conservation Plan (plan). The draft plan covers operations and maintenance activities and minor new construction projects that impact valley elderberry longhorn beetle (Desmocerus californicus dimorphus; beetle) and its habitat. PG&E has three other habitat conservation plans permitted between 2007 and 2020; the draft plan would fill gaps in coverage for the beetle and span all or portions of 12 counties in California.

We also make available the draft environmental assessment (EA), prepared pursuant to the National Environmental Policy Act of 1969, as amended (NEPA; 42 U.S.C. 4321 et seq.), and its implementing regulations in the Code of Federal Regulations (CFR) at 40 CFR 1506.6. The draft EA evaluates the impacts of the proposed action and the no-action alternative. The Service also considered four other alternatives, but these were eliminated from further consideration because they did not meet the purpose and need of the proposed action or the applicant's objectives.

Background Information

Section 9 of the Endangered Species Act (ESA; 16 U.S.C. 1538) and Federal regulations (50 CFR 17) prohibit the taking of fish and wildlife species listed as endangered or threatened under section 4 of the ESA. Regulations governing permits for endangered and threatened species are at 50 CFR 17.22 and 17.32, respectively. For more about the Federal habitat conservation plan (HCP) program, go to https://www.fws.gov/service/habitat-conservation-plans.

National Environmental Policy Act Compliance

The proposed issuance of a permit triggers the need for compliance with NEPA. The draft EA was prepared to analyze the impacts of issuing an incidental take permit based on the draft plan; to inform the public of the proposed action, any alternatives, and associated impacts; and to disclose any irreversible commitments of resources.

Proposed Action

The proposed action is the Service's issuance of an incidental take permit for a period of 30 years for covered species that could be affected by PG&E's operations and maintenance activities and minor new construction (covered activities). The valley elderberry longhorn beetle, federally listed as threatened, is the only species included as a covered species in the draft plan. The permit is requested to fill gaps in coverage from PG&E's three other habitat conservation plans, which include coverage for other federally listed species that occur in the plan area. Measures outlined in these three other plans will continue to be implemented along with the measures included in the draft plan in areas where multiple plans overlap. The goal of PG&E's overall program for the draft plan is to avoid, minimize, and mitigate temporary and permanent impacts to the beetle and its habitat resulting from covered activities.

Covered activities will occur in all or part of the following 12 California counties: Solano, Contra Costa, San Joaquin, Alameda, Stanislaus, Merced, Napa, Santa Clara, San Benito, Fresno, Mariposa and Madera. The total plan area is approximately 477,646 acres. It includes PG&E gas and electric transmission and distribution facilities plus rights-of-way, the lands owned by PG&E or subject to PG&E easements to maintain these facilities, private and public access routes associated with PG&E's routine maintenance, a buffer around the rights of way, areas of minor new construction, and mitigation areas acquired to mitigate effects resulting from covered activities.

Public Comments

We request data, comments, new information, or suggestions from the public, other concerned governmental agencies, the scientific community, Tribes, industry, or any other interested party on this notice, the draft EA, and the draft plan. We particularly seek comments on the following:

1. Biological information concerning the species;

2. Relevant data concerning the species;

3. Additional information concerning the range, distribution, population size, and population trends of the species;

4. Current or planned activities in the area and their possible impacts on the species;

5. The presence of archeological sites, buildings and structures, historic events, sacred and traditional areas, and other historic preservation concerns, which are required to be considered in project planning by the National Historic Preservation Act; and

6. Any other environmental issues that should be considered with regard to the proposed development and permit action.

Public Availability of Comments

Before including your address, phone number, or other personal identifying information in your comment, you should be aware that your entire comment—including your personal identifying information—might be made publicly available at any time. While you can ask us in your comment to withhold your personal identifying information from public review, we cannot guarantee that we will be able to do so.

Authority

We publish this notice under the National Environmental Policy Act of 1969, as amended (42 U.S.C. 4321 et seq.), and its implementing regulations at 40 CFR 1500-1508, as well as in compliance with section 10(c) of the Endangered Species Act (16 U.S.C. 1531 et seq.) and its implementing regulations at 50 CFR 17.22 and 17.32.

Michael Fris,
Field Supervisor, Sacramento Fish and Wildlife Office.

[FR Doc. 2024-15085 Filed 7-9-24; 8:45 am]

BILLING CODE 4333-15-P